NUCLEAR REGULATORY COMMISSION

[NRC-2012-0055]

Changes to the Generic Aging Lessons Learned (GALL) Report Revision 2 AMP XI.M41, “Buried and Underground Piping and Tanks”

AGENCY: Nuclear Regulatory Commission.

ACTION: Reopening of comment period.

SUMMARY: On March 9, 2012 (77 FR 14446), the U.S. Nuclear Regulatory Commission (NRC) published a request for public comments on Draft License Renewal Interim Staff Guidance (LR-ISG), LR-ISG-2011-03, “Changes to GALL Report Revision 2 Aging Management Program (AMP) XI.M41, `Buried and Underground Piping and Tanks.' ” The draft LR-ISG pertains to the changes to the NUREG-1801, Revision 2, “Generic Aging Lessons Learned (GALL) Report,” and the NRC staff's aging management review procedure and acceptance criteria contained in NUREG-1800, Revision 2, “Standard Review Plan for Review of License Renewal Applications for Nuclear Power Plants (SRP-LR),” concerning the Buried and Underground Piping and Tanks Aging Management Program. Comments were to be submitted by April 9, 2012. The purpose of this document is to reopen the public comment period on the LR-ISG-2011-03 to allow more time for stakeholders to assemble comments.

DATES: The comment period has been reopened and now closes on April 20, 2012. Comments received after this date will be considered, if it is practical to do so, but the NRC staff is able to ensure consideration only for comments received on or before this date.

ADDRESSES: You may access information and comment submissions related to this document, which the NRC possesses and is publicly available, by searching on http://www.regulations.gov under Docket ID NRC-2012-0055. You may submit comments by the following methods:

• Federal Rulemaking Web site: Go to http://www.regulations.gov and search for Docket ID NRC-2012-0055. Address questions about NRC dockets to Carol Gallagher; telephone: 301-492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

For additional direction on accessing information and submitting comments, see “Accessing Information and Submitting Comments” in the SUPPLEMENTARY INFORMATION section of this document.

FOR FURTHER INFORMATION CONTACT: Mr. William Holston, Office of Nuclear Reactor Regulation, U.S. Nuclear Regulatory Commission, Washington, DC 20555-0001; telephone: 301-415-8573; email: William.Holston@nrc.gov.

SUPPLEMENTARY INFORMATION:

I. Accessing Information and Submitting Comments

A. Accessing Information

Please refer to Docket ID NRC-2012-0055 when contacting the NRC about the availability of information regarding this document. You may access information related to this document by the following methods:

• Federal Rulemaking Web Site: Go to http://www.regulations.gov and search for Docket ID NRC-2012-0055.

• NRC's Interim Staff Guidance Web Site: The LR-ISG documents are also available online under the “License Renewal” heading at http://www.nrc.gov/reading-rm/doc-collections/#int.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft LR-ISG-2011-03 is available in ADAMS under Accession No. ML11244A058. The GALL Report and SRP-LR are available in ADAMS under Accession Nos. ML103490041 and ML103490036, respectively.

• NRC's PDR: You may examine and purchase copies of public documents at the NRC's PDR, Room O1-F21, One White Flint North, 11555 Rockville Pike, Rockville, Maryland 20852.

B. Submitting Comments

Please include Docket ID NRC-2012-0055 in the subject line of your comment submission, in order to ensure that the NRC is able to make your comment submission available to the public in this docket.

The NRC cautions you not to include identifying or contact information in comment submissions that you do not want to be publicly disclosed. The NRC posts all comment submissions at http://www.regulations.gov as well as entering the comment submissions into ADAMS, and the NRC does not edit comment submissions to remove identifying or contact information.

If you are requesting or aggregating comments from other persons for submission to the NRC, then you should inform those persons not to include identifying or contact information in their comment submissions that they do not want to be publicly disclosed. Your request should state that the NRC will not edit comment submissions to remove such information before making the comment submissions available to the public or entering the comment submissions into ADAMS.

II. Background

On March 9, 2012 (77 FR 14446), the NRC requested public comments on draft LR-ISG-2011-03. Comments were to be submitted by April 9, 2012. By letter dated March 27, 2012, the Nuclear Energy Institute (NEI) requested the comment period be closed on April 20, 2012. The NRC staff is granting NEI's request. The NRC staff believes that granting the request to close the comment period on April 20, 2012, will allow stakeholders a chance to better prepare their responses to LR-ISG-2011-03.

For the Nuclear Regulatory Commission.
Dated at Rockville, Maryland, this 5th day of April 2012.
Melanie A. Galloway,
Acting Director, Division of License Renewal, Office of Nuclear Reactor Regulation.

[FR Doc. 2012-8670 Filed 4-10-12; 8:45 am]

BILLING CODE 7590-01-P